DEPARTMENT OF THE TREASURY

Internal Revenue Service

Open Meeting of the Area 1 Taxpayer Advocacy Panel (Including the States of New York, Connecticut, Massachusetts, Rhode Island, New Hampshire, Vermont and Maine)

AGENCY: Internal Revenue Service (IRS), Treasury.

ACTION: Notice.

SUMMARY: An open meeting of the Area 1 Taxpayer Advocacy Panel will be conducted at The University of Connecticut, Stamford Campus located at One University Place, Stamford, Connecticut 06901-2315. The Taxpayer Advocacy Panel is soliciting public comments, ideas and suggestions on improving customer service at the Internal Revenue Service.

DATES: The meeting will be held on Friday, May 11, 2007 and Saturday, May 12, 2007.

FOR FURTHER INFORMATION CONTACT: Audrey Y. Jenkins at 1-888-912-1227 (toll-free), or 718-488-2085 (non toll-free).

SUPPLEMENTARY INFORMATION: An open meeting of the Area 1 Taxpayer Advocacy Panel will be held Thursday, May 11, 2007 from 9 a.m. to 12 p.m. ET in room 131 and Saturday, May 12, 2007 from 9 a.m. to 10 a.m. ET in room 132 at The University of Connecticut, Stamford Campus located at One University Place, Stamford Connecticut, 06901-2315. Individual comments will be limited to 5 minutes. If you would like to have the TAP consider a written statement, please call 1-888-912-1227 or 718-488-2085, or write Audrey Y. Jenkins, TAP Office, 10 MetroTech Center, 625 Fulton Street, Brooklyn, NY 11201. Due to limited time, notification of intent to participate in the meeting must be made with Audrey Y. Jenkins. Ms. Jenkins can be reached at 1-888-912-1227 or 718-488-2085, or post comments to the Web site: http://www.improveirs.org.

The agenda will include various IRS issues.

Dated: April 6, 2007.
John Fay,
Acting Director Taxpayer Advocacy Panel.

[FR Doc. E7-6972 Filed 4-12-07; 8:45 am]

BILLING CODE 4830-01-P